FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 010746-009

Title: Columbus/P&O Nedlloyd Space Charter and Sailing Agreement

Parties:

Hamburg-Sud

P&O Nedlloyd Limited

Synopsis: The proposed modification revises the geographic scope by deleting U.S. Pacific Coast ports and ports on various Pacific Islands and adding ports in Jamaica and Panama. The modification also updates and restates the agreement.

Agreement No.: 011683-001

Title: Contship/CMA CGM/Marfret Space Charter and Sailing Agreement

Parties:

CMA CGM, S.A.

Compagnie Maritime Marfret

Contship Containerlines Limited

Synopsis: The proposed amendment adds Jamaica and Panama to the agreement's scope, increases the number of vessels currently employed from 8 to 9, increases the maximum authorized from 10 to 12 vessels, and revises space allocations.

Dated: June 1, 2001.
By Order of the Federal Maritime Commission.
Bryant L. VanBrakle,
Secretary.

[FR Doc. 01-14296 Filed 6-6-01; 8:45 am]

BILLING CODE 6730-01-P